DEPARTMENT OF COMMERCE

National Oceanic and Atmospheric Administration

RIN 0648-XE703

North Pacific Fishery Management Council; Public Meeting

AGENCY: National Marine Fisheries Service (NMFS), National Oceanic and Atmospheric Administration (NOAA), Commerce.

ACTION: Notice of a public workshop.

SUMMARY: The North Pacific Fishery Management Council's Stock Structure and Spatial Management public workshop will meet July 21, 2016.

DATES: The public workshop will be held on Thursday, July 21, 2016, from 1 p.m. to 5 p.m.

ADDRESSES: The public workshop will be held at the Alaska Fishery Science Center, 4600 Sand Point Way NE., Building 4, Seattle, WA 98115.

Council address: North Pacific Fishery Management Council, 605 W. 4th Ave., Suite 306, Anchorage, AK 99501-2252; telephone (907) 271-2809.

FOR FURTHER INFORMATION CONTACT: Diana Stram, Council staff; telephone: (907) 271-2809.

SUPPLEMENTARY INFORMATION:

Agenda

Thursday, July 21, 2016

The Council will be hosting a public workshop to discuss stock structure and spatial management with a specific focus on identifying additional tools to manage the Bearing Sea Aleutian Island Blackspotted/Rougheye rockfish complex.

The Agenda is subject to change, and the latest version will be posted, at http://www.npfmc.org/.

Special Accommodations

The public workshop is physically accessible to people with disabilities. Requests for sign language interpretation or other auxiliary aids should be directed to Shannon Gleason, at (907) 271-2809, at least 7 working days prior to the meeting date.

Authority: 16 U.S.C. 1801 et seq.

Dated: June 28, 2016.
Tracey L. Thompson,
Acting Director, Office of Sustainable Fisheries, National Marine Fisheries Service.

[FR Doc. 2016-15656 Filed 6-30-16; 8:45 am]

BILLING CODE 3510-22-P